DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed information collection activities. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Outcome Measures for Substance Abuse Prevention—(OMB No. 0930-0230)—Revision

The mission of SAMHSA's Center for Substance Abuse Prevention (CSAP) is to decrease substance use and abuse and related problems among the American public. CSAP accomplishes this through field-testing scientifically defensible programs; disseminating comprehensive, culturally appropriate prevention strategies, policies, and systems; and building capacity in states and community-based providers. Data are collected from CSAP grants and contracts where participant outcomes are assessed. The analysis of these data helps determine whether progress is being made in achieving CSAP's mission.

The primary purpose of this proposed data activity is to promote the use among CSAP grantees and contractors of common National Outcome Measures recommended by CSAP as a result of extensive examination and recommendations, using consistent criteria, by panels of experts. This activity builds on the previous Core Measures Initiative but improves and modifies it in several ways. Specifically, the activity will be reorganized to reflect and support SAMHSA's National Outcome Domains and therefore, “the National Outcome Measures for Substance Abuse Prevention” (NOMSAP) is the new title proposed for this activity. The use of consistent measurement for specified outcomes across CSAP-funded projects will improve CSAP's ability to respond to the Government Performance and Results Act (GPRA), the Office of Management and Budget Program Assessment Rating Tool (PART) evaluation, and address goals and objectives outlined in the Office of National Drug Control Policy's Performance Measures of Effectiveness.

SAMHSA does not intend to continue collecting all the information items currently approved by OMB. Consistent with request for comments on minimizing burden, SAMHSA wants to reduce burden on participants in the PRNS program (States, communities, and projects) by limiting information collection to outcome measures that are directly relevant to the National Outcome domains that have been identified by SAMHSA.

However, because OMB approval for SAMHSA's collection of data on these and other measures expires on January 31, 2005, we are asking for an extension of OMB approval for the currently approved measures for CSAP's PRNS programs so that we can continue to collect GPRA data until we finalize the National Outcome Measures for Substance Abuse Prevention.

At this time, SAMHSA is considering the following National Outcome Measures for Substance Abuse Prevention and would like comment on them, including recommended sources. Shaded items require development; for others, as indicated, there is general agreement on candidate measures, with the final measures to be selected from the choices listed based on availability and accuracy.

National outcome | Proposed measure
Abstinence from Drug Use/Alcohol Abuse | 30-day substance use (non-use/reduction in use)—adults and youth.
| Perception of drug use as harmful.
| Age of first use.
| Perceived disapproval.
Increased/Retained Employment or Return to/Stay in School | Attendance or suspension and expulsions related to AOD and/or violent behavior—youth.
| Consequences of AOD use—adults.
Decreased Criminal Justice Involvement | AOD-related crime or AOD-related traffic crashes.
Increased Stability in Family and Living Conditions | Family communication—youth.
| Family communication—adults.
Increased Access to Services (Service Capacity) | Number of persons served by age, gender, race, and ethnicity as capacity measure; to develop and add measure of access.
Increased Social Supports/Social Connectedness | Developmental—Coalition measure to be developed.
Cost Effectiveness | Cost averages (bands) for prevention programs—universal, selective, indicated.
Use of Evidence-Based Practices | Total number of evidence-based programs and strategies funded by SPF SIG.
Retention | Developmental—Rates of completion from indicated and selective programs, measure of universal programs to be developed around the sustainability of coalitions.

CSAP may suggest other measures at the community and program levels in order to understand and be accountable for the performance of programs in which the State is not the grantee, but SAMHSA will only require reporting on the National Outcome Measures. Ultimately, SAMHSA's goal in adopting a common set of National Outcome Measures for Substance Abuse Prevention is to have States, communities and providers report outcomes data according to consistent data protocols that is comparable across States and that is able to be “rolled up” from the local and provider level to the State and then to the National level. However, SAMHSA and the States are in discussion about certain instances in which States and communities may use a similar and documented “proxy measure” for measuring a particular domain as long as they can demonstrate that the measure tracks the National Outcome Measure for that domain.

The annual burden estimated is that for the grantees to extract the necessary data from their files and provide it to CSAP's Data Coordinating Center. The table below summarizes the maximum estimated time, i.e., if all programs used all of the National Outcome Measures.

Estimates of Annualized Hour Burden
CSAP program | No. of grantees | Responses/grantee | Hours/response | Total hours
FY05
Knowledge Development
Club drugs/methamphetamine | 22 | 2 | 3 | 132
Fetal Alcohol | 6 | 2 | 3 | 36
Workplace | 13 | 2 | 3 | 78
Targeted Capacity Enhancement
HIV/Targeted Capacity | 45 | 2 | 3 | 270
SPF Sig | 21 | 2 | 3 | 126
FY05 Total | 106 | — | — | 642
FY06
Knowledge Development
Club drugs/methamphetamine | 22 | 2 | 3 | 132
Fetal Alcohol | 6 | 2 | 3 | 36
Workplace | 13 | 2 | 3 | 78
Targeted Capacity Enhancement
HIV/Targeted Capacity | 45 | 2 | 3 | 270
SPF Sig | 40 | 2 | 3 | 240
FY06 Total | 126 | — | — | 756
FY07
Knowledge Development
Club drugs/methamphetamine | 22 | 2 | 3 | 132
Fetal Alcohol | 6 | 2 | 3 | 36
Workplace | 13 | 2 | 3 | 78
Targeted Capacity Enhancement
HIV/Targeted Capacity | 45 | 2 | 3 | 270
SPF Sig | 50 | 2 | 3 | 300
FY07 Total | 136 | — | — | 816
3-Year Annual Average | 123 | — | — | 736

Send comments to Summer King, SAMHSA Reports Clearance Officer, Room 7-1045, 1 Choke Cherry Road, Rockville, MD 20850. Written comments should be received by March 14, 2005.

Dated: January 6, 2005.
Anna Marsh,
Executive Officer, SAMHSA.

[FR Doc. 05-610 Filed 1-11-05; 8:45 am]

BILLING CODE 4162-20-M